DEPARTMENT OF HEALTH AND HUMAN SERVICES

National Institutes of Health

State-of-the-Science Conference: Prevention of Fecal and Urinary Incontinence in Adults; Notice

Notice is hereby given of the National Institutes of Health (NIH) “State-of-the-Science Conference: Prevention of Fecal and Urinary Incontinence in Adults” to be held December 10-12, 2007, in the NIH Natcher Conference Center, 45 Center Drive, Bethesda, Maryland 20892. The conference will begin at 8:30 a.m. on December 10 and 11, and at 9 a.m. on December 12, and will be open to the public.

Fecal and urinary incontinence—the inability to control bowel movements or urination, respectively—are conditions with ramifications that extend well beyond their physical manifestations. Many people find themselves withdrawing from their social lives and attempting to hide the problem from their families, friends, and even their doctors. The embarrassing nature of these conditions poses a significant barrier to seeking professional treatment, resulting in a large number of unreported, untreated individuals. Therefore, it is difficult to determine the accurate prevalence of these conditions, as well as any associated medical history trends. Incontinence is more likely to affect the aging population, although it is not considered a normal consequence of aging. As baby boomers approach their 60s, the incidence and public health burden of incontinence are likely to increase.

Fecal incontinence is a serious and embarrassing problem that affects up to 5 percent of the general population and up to 39 percent of nursing home residents. It affects people of all ages but is more common in women and the elderly. Bowel function is controlled by three factors: rectal sensation, rectal storage capacity, and anal sphincter pressure. If any of these are compromised, fecal incontinence can occur. This condition can have many causes, including constipation, diarrhea, complicated childbirth, muscular or nerve damage, reduced storage capacity due to scarring or irritation, or pelvic dysfunction.

Although urinary incontinence can affect people at all stages of life, it has been estimated that urinary incontinence affects 38 percent of women and 17 percent of men 60 years of age and older. Urinary incontinence can occur if muscles in the wall of the bladder suddenly contract or if muscles surrounding the urethra suddenly relax. Women who have undergone childbirth are the most commonly associated at-risk population for urinary incontinence. Pregnancy and delivery can weaken pelvic muscles, and reduced levels of the hormone estrogen following menopause can cause reduced muscle tone around the urethra, increasing the chance of leakage. Additionally, neurologic injury, birth defects, strokes, multiple sclerosis, and physical problems associated with aging have been reported to contribute.

Because incontinence is likely widely underdiagnosed and underreported, it has been difficult to identify both at-risk and affected populations. Also, because the biological mechanisms that cause both fecal and urinary incontinence are not well understood, it has been difficult to develop robust prevention and management strategies. Toward that end, the National Institute of Diabetes and Digestive and Kidney Diseases and the Office of Medical Applications of Research of the NIH will convene a State-of-the-Science Conference from December 10 to 12, 2007, to assess the available scientific evidence relevant to the following questions:

• What are the prevalence, incidence, and natural history of fecal and urinary incontinence in the community and long-term care settings?

• What is the burden of illness and impact of fecal and urinary incontinence on the individual and society?

• What are the risk factors for fecal and urinary incontinence?

• What can be done to prevent fecal and urinary incontinence?

• What are the strategies to improve the identification of persons at risk and patients who have fecal and urinary incontinence?

• What are the research priorities in reducing the burden of illness in these conditions?

An impartial, independent panel will be charged with reviewing the available published literature in advance of the conference, including a systematic literature review commissioned through the Agency for Healthcare Research and Quality. The first day and a half of the conference will consist of presentations by expert researchers and practitioners and open public discussions. On Wednesday, December 12, the panel will present a statement of its collective assessment of the evidence to answer each of the questions above. The panel will also hold a press conference to address questions from the media. The draft statement will be published online later that day, and the final version will be released approximately six weeks later. The primary sponsors of this meeting are the National Institute of Diabetes and Digestive and Kidney Diseases and the NIH Office of Medical Applications of Research.

Advance information about the conference and conference registration materials may be obtained from American Institutes for Research of Silver Spring, Maryland, by calling 888-644-2667, or by sending e-mail to consensus@mail.nih.gov. American Institutes for Research's mailing address is 10720 Columbia Pike, Silver Spring, MD 20901. Registration information is also available on the NIH Consensus Development Program Web site at http://consensus.nih.gov.

Please Note: The NIH has instituted security measures to ensure the safety of NIH employees and property. All visitors must be prepared to show a photo ID upon request. Visitors may be required to pass through a metal detector and have bags, backpacks, or purses inspected or x-rayed as they enter NIH buildings. For more information about the new security measures at NIH, please visit the Web site at http://www.nih.gov/about/visitorsecurity.htm.

Dated: July 12, 2007.
Raynard S. Kington,
Deputy Director, National Institutes of Health.

[FR Doc. E7-14208 Filed 7-23-07; 8:45 am]

BILLING CODE 4140-01-P